COMMISSION ON CIVIL RIGHTS

State Advisory Committees; Renewal

AGENCY: Commission on Civil Rights.

ACTION: Notice of renewal of the 51 State advisory committees charter.

SUMMARY: The Commission on Civil Rights announces the charter renewal of the Agency's 51 State advisory committees, Federal advisory committees in each State and the District of Columbia that advise the Commission on civil rights issues within their respective geographical jurisdiction.

DATES: This charter renewal will take effect on January 30, 2025, and expires after two years unless otherwise renewed.

FOR FURTHER INFORMATION CONTACT: David Mussatt, US Commission on Civil Rights, 230 S. Dearborn St, Suite 2120, Chicago, IL 60604, telephone (312) 353-8311, email dmussatt@usccr.gov.

SUPPLEMENTARY INFORMATION: Pursuant to section 14(a)(2)(A) of the Federal Advisory Committee Act (Pub. L. 92-463), the Commission on Civil Rights (USCCR) is giving notice of the charter renewal that will go into effect on January 30, 2025, for the 51 non-discretionary advisory committees that Congress mandated per 42 U.S.C. 1975a(d). These advisory committees, created in each State and the District of Columbia, provide advice and recommendations to the USCCR on civil rights issues within their respective geographical jurisdiction. The advisory committees are composed of representatives of the diverse political perspectives of the bipartisan Commissioners. The diversity of the committees ensure the requisite range of views and expertise necessary to discharge their responsibilities. For more information on the advisory committees and to access copies of their reports and documents of their meetings, visit the USCCR advisory committees page on the USCCR website at https://www.usccr.gov/advisory-committees.

Dated: January 13, 2025.
David Mussatt,
Supervisory Chief, Regional Programs Unit.

[FR Doc. 2025-01080 Filed 1-16-25; 8:45 am]

BILLING CODE P